DEPARTMENT OF HEALTH AND HUMAN SERVICES

National Institutes of Health

National Cancer Institute; Notice of Closed Meeting; Correction

Notice is hereby given of a change in the meeting of the National Cancer Institute Initial Review Group, Subcommittee E—Cancer Epidemiology, Prevention & Control, August 17-18, 2000, Georgetown Holiday Inn, 2101 Wisconsin Ave., NW., Washington, DC 20007, which was published in the Federal Register on July 19, 2000 (65 FR 44798).

The meeting will begin on Wednesday, August 16, 2000, at 7 p.m. due to a schedule change. The meeting is closed to the public.

Dated: August 2, 2000.
LaVerne Y. Stringfield,
Director, Office of Federal Advisory Committee Policy.

[FR Doc. 00-20387 Filed 8-11-00; 8:45 am]

BILLING CODE 4140-01-M